DEPARTMENT OF LABOR

Employment and Training Administration

[TA-W-50,248]

Howmet Casting, Dover, New Jersey; Notice of Termination of Investigation

Pursuant to section 221 of the Trade Act of 1974, as amended, an investigation was initiated on December 4, 2002, in response to a petition filed by a State agency representative on behalf of workers at Howmet Casting, Dover, New Jersey.

The petitioner has requested that the petition be withdrawn. Consequently, further investigation would serve no purpose and the investigation has been terminated.

Signed in Washington, DC this 13th day of January, 2003.
Linda G. Poole,
Certifying Officer, Division of Trade Adjustment Assistance.

[FR Doc. 03-2552 Filed 2-3-03; 8:45 am]

BILLING CODE 4510-30-P